DEPARTMENT OF DEFENSE

Office of the Secretary

[Docket No. DOD-2010-DARS-0179]

Submission for OMB Review; Comment Request

AGENCY: DoD.

ACTION: Notice.

SUMMARY: The Department of Defense has submitted to OMB for clearance, the following proposal for collection of information under the provisions of the Paperwork Reduction Act (44 U.S.C. Chapter 35).

DATES: Consideration will be given to all comments received by January 26, 2011.

Title, Associated Forms and OMB Number: Defense Federal Acquisition Regulation Supplement (DFARS) Subpart 215.4, Contract Pricing; DD Form 1861, Contract Facilities Capital Cost of Money; OMB Control Number 0704-0232.

Type of Request: Extension.

Number of Respondents: 10,300.

Responses per Respondent: approximately 5.

Annual Responses: 53,458.

Average Burden per Response: 10 hours.

Annual Burden Hours: 538,480 hours.

Needs and Uses: DoD contracting officers use DD Form 1861 in computing profit objectives for negotiated contracts. A DD Form 1861 is normally completed for each proposal for a contract for supplies or services that is priced and negotiated on the basis of cost analysis. The form enables contracting officers to differentiate profit objectives for various types of contractor assets (land, buildings, equipment). DoD needs this information to develop appropriate profit objectives when negotiating Government contracts.

DoD contracting officers need the information required by DFARS 215.407-5, Estimating systems, and the related contract clause at 252.215-7002, Cost Estimating System Requirements, to determine if a contractor has an acceptable system for generating cost estimates, and to monitor the correction of any deficiencies.

Affected Public: Business or other for-profit.

Frequency: On Occasion.

Respondent's Obligation: Required to obtain or retain benefits.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DoD Clearance Officer: Ms. Patricia Toppings.

Written requests for copies of the information collection proposal should be sent to Ms. Toppings at WHS/ESD/Information Management Division, 1777 North Kent Street, RPN, Suite 11000, Arlington, VA 22209-2133.

Dated: November 30, 2010.
Morgan F. Park,
Alternate OSD Federal Register Liaison Officer, Department of Defense.

[FR Doc. 2010-32386 Filed 12-23-10; 8:45 am]

BILLING CODE 5001-06-P